DEPARTMENT OF AGRICULTURE

Food and Nutrition Service

Agency Information Collection Activities: Proposed Collection; Comment Request—Supplemental Nutrition Assistance Program: State Agency Options

AGENCY: Food and Nutrition Service (FNS), USDA.

ACTION: Notice.

SUMMARY: In accordance with the Paperwork Reduction Act of 1995, this notice invites the general public and other public agencies to comment on the proposed collection. This is a revision of the currently approved burden for the Supplemental Nutrition Assistance Program (SNAP): State Agency Options information collection.

DATES: Written comments must be received on or before October 11, 2016.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility and clarity of the information to be collected; and (d) ways to minimize the burden of the collection of information on those who are to respond, including through the use of appropriate automated, electronic, mechanical or other technological collection techniques or other forms of information technology.

Comments may be sent to: Sasha Gersten-Paal, Food and Nutrition Service, U.S. Department of Agriculture, 3101 Park Center Drive, Room 812, Alexandria, VA 22302. Comments may also be submitted via fax to the attention of Ms. Gersten-Paal at 703-305-2507 or via email to Sasha.Gersten-Paal@fns.usda.gov. Comments will also be accepted through the Federal eRulemaking Portal. Go to http://www.regulations.gov, and follow the online instructions for submitting comments electronically.

All responses to this notice will be summarized and included in the request for Office of Management and Budget (OMB) approval. All comments will be a matter of public record.

FOR FURTHER INFORMATION CONTACT: Requests for additional information or copies of this information collection should be directed to Ms. Gersten-Paal at 703-305-2486

SUPPLEMENTARY INFORMATION:

Title: Supplemental Nutrition Assistance Program: State Agency Options.

OMB Number: 0584-0496.

Form Number: None.

Expiration Date: December 31, 2016.

Type of Request: Revision of a currently approved information collection.

Abstract: The collections covered under OMB Number 0584-0496 address information and burden estimates associated with the following State Agency Options: Establishing and reviewing standard utility allowances and establishing methodology for offsetting cost of producing self-employment income.

This notice revises the State Agency Options information collection for the Supplemental Nutrition Assistance Program (SNAP) to reflect changes in the number of States that have implemented the options herein and the change in burden since the previous revision. Federal regulations implementing SNAP application and certification procedures are contained in parts 271, 272 and 273 of title 7 of the Code of Federal Regulations (CFR). The regulations addressing State agency options specified in this collection are contained in 7 CFR 273.

Using FNS-388 and 388A, (approved under OMB# 0584-0594 expiration date 6/30/2019), States send aggregate level data on participation, benefits issued, and other basic program information to FNS using the Food Programs Reporting System (FPRS) via this Web site: https://fprs.fns.usda.gov. These FNS approved forms are used as supplemental data only and this collection is not seeking any additional burden hours for the use of these forms.

Since the last renewal, there have been changes in the number of States that implement the options in this collection. This collection revises the number of State agencies that have implemented the options herein as well as the burden associated with the collection.

Establishing and Reviewing Standard Utility Allowances

The regulations at 7 CFR 273.9(d)(6)(iii) allow State agencies to establish standard utility allowances (SUA) in place of the actual utility costs incurred by a household. State agencies are required to review and adjust SUAs annually to reflect changes in the costs of utilities. State agencies are required to submit the amounts of standards when they are changed and methodologies used to develop and update the standards to FNS for approval when they are developed or changed.

Estimates of burden: FNS estimates 53 State agencies will submit one request each to adjust the SUAs, for a total annual response of 53 requests at a minimum of 2.5 hours annually (53 State agencies × 1 SUAs request = 53 total annual responses × 2.5 hours = 132.5 hours). The total burden for this provision is estimated to be 132.5 hours per year. This is an increase of 2.5 hours from the previous submission, due to an increase in State agencies implementing this option.

Self-Employment Costs

The regulations at 7 CFR 273.11(b) allow self-employment income to be reduced by the cost of producing such income. The regulations allow the State agencies, with approval from FNS, to establish the methodology for offsetting the costs of producing self-employment income, as long as the procedure does not increase program costs.

Estimates of burden: Based on the information provided in the Twelfth Edition of the SNAP State Options Report, out of the 53 State agencies, 21 State agencies have incorporated a methodology for determining the cost of doing business in self-employment cases. This is an increase from 18 States in the previously approved information collection. It is estimated that these 21 States will submit one request each, totaling 21 annual responses. States will incur a burden of at least 10 working hours gathering and analyzing data, developing the methodology, determining the cost implication and submitting a request to FNS, for a total burden of 210 hours annually (21 State agencies × 1 request = 21 total annual responses × 10 working hours = 210 burden hours). This is an increase of 30 burden hours from the previous submission.

Record Keeping Burden Only

All 53 State agencies are required to keep and maintain one record of the information gathered and submitted to FNS for the SUA and self-employment options. It is estimated that this process will take 7 minutes or .1169 hours per year for each State agency, resulting in a total annual burden of 6 hours (53 State agencies × 1 record = 53 total annual records × .1169 hours = 6 hours). This burden remains unchanged from the previous submission.

The following table illustrates the burden estimates associated with the State agency options included in this collection.

Respondent and reporting activities | Estimated number of respondents | Responses annually per respondent | Total annual responses | Estimated average number of hours per response | Estimated total hours (Col. dxe)
Reporting Burden—Establishing and Reviewing Standard Utility Allowances (SUAs)
State, Local or Tribal Agencies | 53 | 1 | 53 | 2.50 | 132.5
Reporting Burden—Establishing Self-Employment Costs Methodology
State, Local or Tribal Agencies | 21 | 1 | 21 | 10 | 210
Total Reporting Burden | 53 |  | 74 |  | 342.5
Recordkeeping Burden
State, Local or Tribal Agencies | 53 | 1 | 53 | 0.1169 | 6
Total Recordkeeping Burden | 53 |  | 53 |  | 6
Total Burden Summary for Reporting and Recordkeeping | 53 |  | 127 |  | 348.5

Dated: August 2, 2016.
Yvette S. Jackson,
Acting Administrator, Food and Nutrition Service.

[FR Doc. 2016-18980 Filed 8-9-16; 8:45 am]

BILLING CODE 3410-30-P